DEPARTMENT OF HOMELAND SECURITY

Coast Guard

33 CFR Parts 117 and 165

[CGD09-03-204]

[RIN 1625-AA09 and 1625-AA00]

Bay City Tall Ship Celebration, Saginaw River, August 14-18, 2003

AGENCY: Coast Guard, DHS.

ACTION: Temporary final rule.

SUMMARY: The Coast Guard is establishing temporary safety zones and drawbridge suspension regulations during the Bay City Tall Ship Celebration to be held from August 14, 2003 through August 18, 2003 located on the Saginaw River in Bay City, Michigan. These safety zones are necessary to promote the safe navigation of vessels and the safety of life and property during the periods of heavy vessel traffic expected during these events. These safety zones are intended to restrict vessel traffic from a portion of Saginaw Bay and the Saginaw River.

DATES: This rule is effective from August 14, 2003 through August 18, 2003.

ADDRESSES: Comments and material received from the public, as well as documents indicated in this preamble as being available in the docket, are part of docket CGD09-03-204 and are available for inspection or copying at U.S. Coast Guard Marine Safety Office Detroit, 110 Mt. Elliott Ave., Detroit, Michigan between 8 a.m. and 4 p.m., Monday through Friday, except Federal holidays.

FOR FURTHER INFORMATION CONTACT: Lieutenant Junior Grade Brandon Sullivan, Marine Safety Office Detroit, at (313) 568-9558.

SUPPLEMENTARY INFORMATION:

Regulatory History

On March 24, 2003, the Coast Guard published a notice of proposed rulemaking (NPRM) entitled Bay City Tall Ship Celebration 2003, Saginaw River, MI in the Federal Register (68 FR 14170). The Coast Guard did not receive any letters commenting on the proposed rulemaking. No public hearing was requested, and none was held.

Background and Purpose

Bay City Tall Ship Celebration 2003 is a community-wide maritime festival in Bay City, MI, featuring a 12-mile ship parade, fireworks, and in-port viewing and tours of moored historic tall ship vessels between August 14 and August 18, 2003. The parade of ships is the start of the Bay City Celebration. The parade will form in Saginaw Bay and traverse the Saginaw River to the Liberty Bridge and the Friendship Pier.

Vessels will moor at docks along Veterans Park and Wenonah Park between the Liberty Bridge and the Friendship Pier in Bay City. We are establishing a temporary moving safety zone around the parade vessels during the parade to ensure the safety of passengers, crew and visitors. A second temporary safety zone will be established, once the vessels are moored, between the Liberty Bridge and the Friendship Pier (by light buoy 28) mile marker six. Fireworks are scheduled to take place in Veterans Park on August 16, 2003 from 9:30 p.m. to 11 p.m. These temporary regulations are prompted by the high degree of control necessary to ensure the safety of both participating and spectator vessels during the events occurring in Saginaw Bay and the Saginaw River. These regulations provide guidance on vessel movement controls and safety zones that will be in effect at specified marine locations during specified times. The temporary regulations are specifically designed to minimize adverse impacts on commercial users of the affected waterways.

Discussion of Comments and Changes

On March 24, 2003, the Coast Guard published a notice of proposed rulemaking (NPRM) entitled Bay City Tall Ship Celebration 2003, Saginaw River, MI, (68 FR 14170). The Coast Guard did not receive any letters commenting on the proposed rulemaking. No public hearing was requested, and none was held.

Regulatory Evaluation

This rule is not “significant regulatory action” under section 3(f) of Executive Order 12866 and does not require an assessment of potential costs and benefits under section 6(a) (3) of the Order. The Office of Management and Budget has not reviewed it under that Order. It is not significant under the regulatory policies and procedures of the Department of Homeland Security.

We expect the economic impact of this temporary final rule to be so minimal that a full Regulatory Evaluation under the regulatory policies and procedures of DHS is unnecessary.

The temporary moving safety zone will only be during a six hour time period on August 14, 2003. The additional safety zone will be enforced after the mooring of the parade vessels. On August 14, 2003, the combination of parade vessels and large numbers of recreational vessels will cause potential disruptions to normal port activity. However, due to the temporary nature of these disruptions, they can be planned for in advance to minimize the economic hardship that might result. The largest segments of the port community facing disruptions are the operators of deep draft vessels and the terminals they call on. In addition to the extended advance notice of these events provided by the COTP, deep draft vessel traffic will be accommodated as best as possible on these two days.

The Coast Guard expects that the amount of publication and advertisement about these events and about these regulations will allow the industry sufficient time to adjust schedules and minimize adverse impacts. Weighted against and counterbalanced with adverse impacts are the favorable economic impacts that these events will have on commercial activity in the area as a whole from the boaters and tourists these events are expected to attract.

Small Entities

Under the Regulatory Flexibility Act (5 U.S.C. 601-612), an initial review was conducted to determine whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities. If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-221), we want to assist small entities in understanding this rule so that they can better evaluate its effects on them and participate in the rulemaking. If this rule would affect your small business, organization, or governmental jurisdiction and you have questions concerning its provisions or options for compliance, please contact Marine Safety Office Detroit (see ADDRESSES).

Collection of Information

This rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule would not result in such an expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard considered the environmental impact of this rule and concluded that, under figure 2-1, paragraphs 34 (f, g, and h) of Commandant Instruction M16475.1C, this rule is categorically excluded from further environmental documentation. A written “Categorical Exclusion Determination” is available in the docket where indicated under ADDRESSES.

List of Subjects

33 CFR Part 117

Bridges.

33 CFR Part 165

Harbors, Marine safety, Navigation (water), Reporting and recordkeeping requirements, Security measures, Waterways.

PART 117—DRAWBRIDGE OPERATION REGULATIONS

1. The authority citation for part 117 continues to read as follows:

Authority: 33 U.S.C. 499; 33 CFR 1.05-1(g); Section 117.255 also issued under authority of Pub. L. 102-587, 106 Stat. 5039; Department of Homeland Security delegation No. 0170.1.

2. From 8 a.m. through 1 p.m., Thursday, August 14, 2003, in § 117.647, suspend paragraph (b) and add temporary paragraphs (e) and (f) to read as follows:

§ 117.647 Saginaw River.

* * * * *

(e) The draws of the Veterans Memorial bridge, mile 5.60, and Lafayette Street bridge, mile 6.78 in Bay City, shall open on signal from March 16 through December 15, except as follows:

(1) From 6:30 a.m. to 8:30 a.m. and from 3:30 p.m. to 5:30 p.m. except Saturdays, Sundays, and holidays observed in the locality, the draws need not be opened for the passage of vessels of less than 50 gross tons.

(2) From 7:30 a.m. to 8:30 a.m. and from 4:30 p.m. to 5:30 p.m. except on Sundays and Federal holidays, the draws need not be opened for the passage of down-bound vessels of over 50 gross tons.

(3) From 8 a.m. to 8 p.m. on Saturdays, Sundays, and Federal holidays, the draws of the Independence and Veterans Memorial bridges need not be opened for the passage of pleasure craft except from three minutes before to three minutes after the hour and half-hour.

(4) From 8 a.m. to 8 p.m. on Saturdays, Sundays, and Federal holidays, the draws of the Liberty Street and Lafayette Street bridges need not be opened for the passage of pleasure craft, except from three minutes before to three minutes after the quarter hour and three-quarter hour.

(f) The draws of the Independence bridge, mile 3.88, and the Liberty Street Bridge, mile 4.99, from 1 p.m. until 9 p.m., Thursday, August 14, 2003, shall be closed to navigation, except that the draws shall open upon signal for official vessels participating in the Tall Ship Celebration 2003 Parade of Ships.

PART 165—REGULATED NAVIGATION AREAS AND LIMITED ACCESS AREAS

For the reasons discussed in the preamble, the Coast Guard proposes to amend 33 CFR part 165 as follows:

3. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

4. From 1 p.m. on August 14, 2003 through 9 p.m. on August 18, 2003 add temporary § 165.T09-204 to read as follows:

§ 165.T09-204 Safety Zone; Tall Ship Celebration 2003 Bay City, MI

(a) The following are safety zones:

(1) Saginaw River Moored Tall Ships Safety Zone, Veterans Park and Wenonah Park, Saginaw River, Bay City, MI.—(i) Location. The following area is a safety zone: All waters of the Saginaw River between the Liberty Bridge at mile 4.99 and the Friendship Pier at mile 6.1 within 50 feet of any participating moored Tall Ships.

(ii) Enforcement period. The safety zone will be enforced whenever a tall ship is moored at Veterans Park or Wenonah Park between the Liberty Bridge and the Friendship Pier, from 1 p.m. on August 14, 2003 to 9 p.m. on August 18, 2003.

(iii) Special regulations. (A) Vessels operating in the Saginaw River within the safety zone during the effective period must proceed at no wake speeds, and not within 50 feet of the hull of any moored tall ship, in traffic patterns as directed by on-scene Coast Guard patrol craft, so as not to hazard tall ships or shore-side visitors boarding tall ships.

(B) Vessels shall remain outside the designated hazard area in the safety zone, as directed by on-scene Coast Guard personnel, during any evening fireworks event.

(2) Bay City Tall Ships Parade Moving Safety Zone.— (i) Location. The following area is a moving safety zone: All navigable waters 100 yards ahead of the first official parade vessel, 50 yards abeam of each parade vessel, and 50 yards astern of the last vessel in the parade between the starting position at 43°43′54″ N, 83°46′54″ W (northeast of Saginaw Bay Light “12” (LLNR 10675)), and remaining in effect until the official parade vessels are moored between Veterans Memorial Park and Wennonah Park (between the Liberty Bridge and the Friendship Pier)(These coordinates are based upon North American Datum 1983).

(ii) Enforcement period. This section will be enforced from 1 p.m. on Thursday, August 14, 2003 until 9 p.m. on Thursday, August 14, 2003, or the time each participating Tall Ship is safely moored in Bay City, whichever is sooner.

(b) Regulations. (1) The general regulations in 33 CFR 165.23 apply.

(2) All persons and vessels shall comply with the instructions of the Coast Guard Captain of the Port or the designated on-scene patrol personnel. Coast Guard patrol personnel include commissioned, warrant, and petty officers of the U.S. Coast Guard. Upon being hailed by a U.S. Coast Guard vessel via siren, radio, flashing light, or other means, the operator shall proceed as directed. U.S. Coast Guard Auxiliary, representatives of the event organizer, and local or state officials may be present to inform vessel operators of this regulation and other applicable laws.

Dated: June 7, 2003.
Ronald F. Silva,
Rear Admiral, Coast Guard, Commander, Ninth Coast Guard District.

[FR Doc. 03-17988 Filed 7-15-03; 8:45 am]

BILLING CODE 4910-15-P